DEPARTMENT OF AGRICULTURE

Forest Service

Plumas County Resource Advisory Committee (RAC)

AGENCY: Forest Service, USDA.

ACTION: Notice of meetings.

SUMMARY: The Plumas County Resource Advisory Committee (RAC) will hold meetings on April 11, 2003, in Chester, California, and on May 16, 2003, in Chilcoot, CA. The March 7, 2003, meeting was cancelled. The purpose of the April meeting will be to review the proposed Plumas County Title III projects, consider several resubmitted projects from the second (Cycle 2) funding cycle, and to review dates and materials for the third (Cycle 3) funding process under the Title 2 provisions of the Secure Rural Schools and Community Self-Determination Act of 2000. The May agenda will be established at the April meeting.

DATES AND ADDRESSES: The April 11 meeting will take place from 9-1:30 p.m., at the Lake Almanor Elks Lodge, 164 Main Street, Chester, California. The time and place for the May 16 meeting will be determined at a later date.

FOR FURTHER INFORMATION CONTACT: Lee Anne Schramel Taylor, Forest Coordinator, USDA, Plumas National Forest, PO Box 11500/159 Lawrence Street, Quincy, CA, 95971; (530) 283-7850; or by e-mail to eataylor@fs.fed.us. Final agendas are posted one week prior to the meeting on the Internet at: http://www.fs.fed.us/r5/pay2states/plumas. Prior meeting minutes and agendas are available on the same site.

SUPPLEMENTARY INFORMATION: Agenda items for the April 11 meeting include:

(1) Forest Service update regarding RAC general administration and replacement members;

(2) Review Cycle 2 project approvals with Forest Supervisor;

(3) Consider and make decision on Cycle 3 funding cycle dates and materials;

(4) Review Plumas County Supervisor's proposed Title III projects; and

(5) Future meeting schedule/logistics/agenda.

The meetings are open to the public and individuals may address the Committee after being recognized by the Chair.

Dated: March 28, 2003.
Robert G. MacWhorter,
Deputy Forest Supervisor.

[FR Doc. 03-8320 Filed 4-4-03; 8:45 am]

BILLING CODE 3410-11-M